DEPARTMENT OF VETERANS AFFAIRS

Voluntary Service National Advisory Committee, Notice of Meeting

The Department of Veterans Affairs gives notice under Public Law 92-463 that the annual meeting of the Department of Veterans Affairs Voluntary Service National Advisory Committee (NAC) will be held at the Doubletree Hotel at Reid Park, 445 South Alvernon Way, Tucson, Arizona, from May 30 through June 2, 2001. The meeting begins with participant registration from 12 noon-5 p.m. on Tuesday, May 29, and from 8 a.m.-5 p.m. on Wednesday, May 30, through Friday, June 1, in the Ballroom Foyer.

The committee, comprised of 60 national voluntary organizations, advises the Under Secretary for Health and other members of the Department of Veterans Affairs Central Office staff on how to coordinate and promote volunteer activities within VA facilities. The primary purposes of this meeting are to provide for committee review of volunteer policies and procedures; to accommodate full and open communications between the organizations, representatives and the Voluntary Service Office and field staff; to provide educational opportunities geared toward improving volunteer programs with special emphasis on methods to recruit, retain, motivate, and recognize volunteers; and to approve committee recommendations. This year's meeting will serve as an opportunity to promote and celebrate “International Year of Volunteers-2001.”

On Tuesday, May 29, pre-meeting activities include a VAVS Field Staff meeting from 4-6 p.m. in the Boojum Room. The session on Wednesday, May 30, includes the following events: The Executive Committee to the NAC will meet from 8 a.m.-12 noon in the Bonsai/Boojum Room; Southern Arizona Health Care System will provide a Health Exhibit from 10 a.m.-3 p.m. in the Ballroom Foyer; New Member Orientation will be from 1-2:30 p.m. in Ballroom A-D; and an Open Forum will be from 3-4:30 p.m. in Ballroom A-D. Opening ceremonies will begin at 6 p.m. featuring Thomas L. Garthwaite, M.D., Under Secretary for Health, as keynote speaker.

On Thursday, May 31, there will be a Business Session from 8:30-11:30 a.m. in Ballroom A-E, where the Honorable Anthony J. Principi, Secretary of Veterans Affairs, will be the keynote speaker. The workshops include the following topics. (The locations of the workshops are also noted.) Volunteer In Home Respite Care Program, in Salons A-C; It's All About CHANGE—What Fits and What Doesn't, in Salons F-H; Community Based Volunteers and the Advanced Illness Coordinated Care Programs, in Salon E; and Closing the Digital Divide for Our Nation's Veterans, in Salon D.

On Friday, June 1, a NAC Business Session will be held from 8:30-10 a.m. in Ballrooms A-E. The educational workshops will be repeated from 10:30 a.m.-12:30 p.m. and from 3-4:30 p.m. in the same rooms as on Thursday. The James H. Parke Memorial Scholarship Luncheon will be held from 12:30-2 p.m. in Ballrooms D-E, honoring the 2001 recipient of the James H. Parke Scholarship.

On the morning of Saturday, June 2, the NAC will hold a Business Session from 8:30-11:30 a.m. in Ballrooms A-E. A critique of the meeting will be held from 11:30 a.m.-12:30 p.m. in Bonsai/Boojum. A closing celebration honoring the NAC Volunteers of the Year, Parke Scholarship Award recipient and the Voluntary Service Award for Excellence recipient will be held in Ballrooms A-D, beginning at 6 p.m.

The meeting is open to the public. Individuals interested in attending are encouraged to contact Ms. Laura Balun, Administrative Officer, Voluntary Service Office (10C2), Department of Veterans Affairs, 810 Vermont Avenue, NW., Washington, DC, 20420, at (202) 273-8392.

Dated: May 10, 2001.
By Direction of the Secretary.
Ventris C. Gibson,
Committee Management Officer.

[FR Doc. 01-12528 Filed 5-17-01; 8:45 am]

BILLING CODE 8320-01-M